DEPARTMENT OF THE INTERIOR

Bureau of Land Management

[CO-174-1820-DG]

Canyons of the Ancients National Monument Advisory Committee; Notice of Intent To Establish and Call for Nominations

AGENCY: Bureau of Land Management (BLM), San Juan Public Lands Center, Durango, Colorado.

ACTION: Notice of intent to establish and call for nominations for the Canyons of the Ancients National Monument Advisory Committee, as directed by the Secretary of the Interior on June 28, 2000, to “establish an advisory committee to advise BLM on issues related to the Monument”.

SUMMARY: BLM is publishing this notice under section 9(a)(2) of the Federal Advisory Committee Act. Pursuant to the instructions of the Secretary of the Interior dated June 28, 2000, BLM gives notice that the Secretary of the Interior intends to establish the Canyons of the Ancients National Monument Advisory Committee (Committee). The notice requests the public to submit nominations for membership on the Committee. The Committee is necessary to advise the Secretary and BLM on resource management issues associated with the Canyons of the Ancients National Monument (CANM).

DATES: Submit a completed nomination form and nomination letters to the address listed below no later than May 24, 2002.

ADDRESSES: Send nominations to: Manager, Canyons of the Ancients National Monument, Bureau of Land Management, 27501 Highway 184, Dolores, Colorado 81323.

FOR FURTHER INFORMATION CONTACT: Gary Thrash, Planner, 970-385-1371, LouAnn Jacobson, Manager, 970-882-4811, or e-mail Colorado_CANM@co.blm.gov or visit the monument Web site at http://www.co.blm.gov/canm/index.html.

SUPPLEMENTARY INFORMATION: Any individual or organization may nominate one or more persons to serve on the Canyons of the Ancients National Monument Advisory Committee. Individuals may nominate themselves for Committee membership. You may obtain nomination forms from the Canyons of the Ancients National Monument Manager, Bureau of Land Management (see ADDRESSES, above) or from http://www.co.blm.gov/canm/index.html. To make a nomination, you must submit a completed nomination form, letters of reference from the represented interests or organizations, as well as any other information that speaks to the nominee's qualifications, to the Canyons of the Ancients National Monument Manager. You may make nominations for the following categories of interest:

• A representative of the Montezuma County Commission (appointed from nominees submitted by the Montezuma County Commission);

• A representative of the Dolores County Commission (appointed from nominees submitted by the Dolores County Commission);

• Two persons from any of the following tribes and pueblos representing Native American interests: The Ute Mountain Ute Tribe, The Uintah-Ouray Ute Tribe, The Southern Ute Tribe, The Navajo Nation, The Hopi Tribe, The Pueblo of Acoma, The Pueblo of Cochiti, The Pueblo of Isleta, The Pueblo of San Felipe, The Pueblo of Santa Ana, The Pueblo of Santo Domingo, The Pueblo of Jemez, The Pueblo of Laguna, The Pueblo of Sandia, The Pueblo of Zia, The Pueblo of Zuni, The Pueblo of Nambe, The Pueblo of San Juan, The Pueblo of Picuris, The Pueblo of Pojoaque, The Pueblo of San Ildefonso, The Pueblo of Santa Clara, The Pueblo of Taos, The Pueblo of Tesuque (appointed from nominees submitted by the Bureau of Land Management);

• Two persons who are recognized cultural resource representatives, one of whom represents regional interests and one of whom is from the local area (appointed from nominees submitted by the Bureau of Land Management);

• One person who is a grazing permittee on Federal lands in the CANM (appointed from nominees submitted by the Bureau of Land Management);

• A person who represents fluid minerals development (appointed from nominees submitted by the Bureau of Land Management);

• Three people representing any of the following: private landowners in or adjacent to the CANM, recognized national or regional environmental or resource conservation organizations, off-road vehicle use, commercial recreation, and/or representing statewide perspectives with no financial interest in the CANM (appointed from nominees submitted by the Bureau of Land Management).

The specific category the nominee would like to represent should be identified in the letter of nomination and in the nomination form. The Canyons of the Ancients National Monument Manager will collect the nomination forms and letters of reference and distribute them to the officials responsible for submitting nominations (Montezuma County Commission, Dolores County Commission, and the Bureau of Land Management). The Bureau of Land Management will then forward recommended nominations to the Secretary, who has responsibility for making the appointments.

The purpose of the Canyons of the Ancients National Monument Advisory Committee is to advise the Bureau of Land Management concerning development and implementation of a management plan for public lands within Canyons of the Ancients National Monument. Each member will be a person who, as a result of training and experience, has knowledge or special expertise which qualifies him or her to provide advice from among the categories of interest listed above.

Members will serve without monetary compensation, but will be reimbursed for travel and per diem expenses at current rates for Government employees. The membership term will be for four years.

Elaine Marquis-Brong,
Director, National Landscape Conservation System, Bureau of Land Management.

[FR Doc. 02-9590 Filed 4-23-02; 8:45 am]

BILLING CODE 4310-JB-P